DEPARTMENT OF ENERGY

Electricity Advisory Committee

AGENCY: Office of Electricity, Department of Energy.

ACTION: Notice of open meeting.

SUMMARY: This notice announces a meeting of the Electricity Advisory Committee (EAC). The Federal Advisory Committee Act (FACA) requires that public notice of these meetings be announced in the Federal Register.

DATES: Wednesday, June 8, 2022; 1:00 p.m.-6:00 p.m. EST

Thursday, June 9, 2022; 8:00 a.m.-12:30 p.m. EST

ADDRESSES: The June meeting of the EAC will be held at the National Rural Electric Cooperative Association Headquarters in Arlington, VA, 4301 Wilson Blvd., Ste. 1, Arlington, VA 22203. Members of the public are encouraged to participate virtually, however, limited physical space is available for members of the public to attend onsite. To register to attend either in-person or virtually, please visit the meeting website: https://www.energy.gov/oe/june-8-9-2022-meeting-electricity-advisory-committee. Please note, you must register for each day you would like to attend.

FOR FURTHER INFORMATION CONTACT: Christopher Lawrence, Designated Federal Officer, Office of Electricity, U.S. Department of Energy, Washington, DC 20585; Telephone: (202) 586-5260 or Email: christopher.lawrence@hq.doe.gov.

SUPPLEMENTARY INFORMATION:

Purpose of the Committee: The EAC was established in accordance with the provisions of FACA, as amended, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

June 8, 2022

12:45 p.m.-1:00 p.m. WebEx Attendee Sign-On

1:00 p.m.-1:20 p.m. Welcome, Introductions, Developments since the March 2022 Meeting

1:20 p.m.-1:50 p.m. Update on Office of Electricity Programs and Initiatives

1:50 p.m.-2:40 p.m. Bipartisan Infrastructure Law Implementation

2:40 p.m.-3:00 p.m. Break

3:00 p.m.-3:40 p.m. National Transmission Planning Study (NTPS) Presentation Panel

3:40 p.m.-5:50 p.m. Electric Transmission Authorities Panel and Discussion

5:50 p.m.-6:00 p.m. Wrap-up and Adjourn Day 1

June 9, 2022

7:45 a.m.-8:00 a.m. WebEx Attendee Sign-On

8:00 a.m.-8:10 a.m. Day 2 Opening Remarks

8:10 a.m.-9:40 a.m. Supply Chain Considerations for Energy Storage

9:40 a.m.-11:10 a.m. Electric Vehicle (EV) Deployment Panel and Discussion

11:10 a.m.-11:25 a.m. Break

11:25 a.m.-11:35 a.m. Subcommittee Update: Energy Storage

11:35 a.m.-11:45 a.m. Subcommittee Update: Grid Resilience for National Security

11:45 a.m.-11:55 a.m. Subcommittee Update: Smart Grid

11:55 a.m.-12:15 p.m. Public Comments

12:15 p.m.-12:30 p.m. Wrap-up and Adjourn June 2022 Meeting of the EAC

The meeting agenda and times may change to accommodate EAC business. For EAC agenda updates, see the EAC website at: http://energy.gov/oe/services/electricity-advisory-committee-eac.

Public Participation: The EAC welcomes the attendance of the public at its meetings. Individuals who wish to offer public comments at the EAC meeting may do so on June 9, 2022, but must register in advance by 5:00 p.m. Eastern Time on June 8th. Approximately 20 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee June 2022 Meeting,” to Mr. Christopher Lawrence at christopher.lawrence@hq.doe.gov.

Minutes: The minutes of the EAC meeting will be posted on the EAC web page at http://energy.gov/oe/services/electricity-advisory-committee-eac. They can also be obtained by contacting Mr. Christopher Lawrence at the address above.

Signed in Washington, DC, on May 10, 2022.
LaTanya R. Butler,
Deputy Committee Management Officer.

[FR Doc. 2022-10464 Filed 5-13-22; 8:45 am]

BILLING CODE 6450-01-P